DEPARTMENT OF ENERGY

Federal Energy Regulatory Commission

[Project No. 13648-000]

Twin Valleys Public Power District; Notice of Preliminary Permit Application Accepted for Filing and Soliciting Comments, Motions To Intervene, and Competing Applications

March 31, 2010.

On January 4, 2010, and revised March 4, 2010 and March 30, 2010, Twin Valleys Public Power District filed an application for a preliminary permit, pursuant to section 4(f) of the Federal Power Act, proposing to study the feasibility of the Medicine Creek Dam Hydroelectric Project located on the Medicine Creek in Frontier County, Nebraska. The Medicine Creek dam is owned and operated by the U.S. Bureau of Reclamation (Reclamation). The sole purpose of a preliminary permit, if issued, is to grant the permit holder priority to file a license application during the permit term. A preliminary permit does not authorize the permit holder to perform any land-disturbing activities or otherwise enter upon lands or waters owned by others without the owners' express permission.

The proposed project would consist of the following: (1) A 100-foot-long, 6-foot-diameter steel penstock directing flows from the existing low-level outlets of Medicine Creek Dam; (2) a powerhouse containing one Kaplan generating unit having an installed capacity of 800 kilowatts, discharging flows into Medicine Creek; (3) 2-mile-long, 12.5-kilovolt transmission line connecting to an existing transmission line owned and operated by Twin Valleys Public Power District; and (4) appurtenant facilities. The proposed project would have an average annual generation of 2.0 gigawatt-hours. Since the dam is operated primarily for irrigation and flood control by Reclamation, the project would operate seasonally using seasonal flows released for irrigation, as well as spring runoffs. The project will be located on 18.3 acres of federal land managed by the Reclamation.

Applicant Contact: James P. Dietz, General Manager, Twin Valleys Public Power District, P.O. Box 160, Cambridge, NE 69022; phone: (308) 697-3315.

FERC Contact: Joseph C. Adamson, 202-502-8085.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's website (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's website at http://www.ferc.gov/docs-filing/elibrary.asp. Enter the docket number (P-13648-000) in the docket number field to access the document. For assistance, contact FERC Online Support.

Nathaniel J. Davis, Sr.,
Deputy Secretary.

[FR Doc. 2010-7701 Filed 4-5-10; 8:45 am]

BILLING CODE 6717-01-P